DEPARTMENT OF HEALTH AND HUMAN SERVICES

National Institutes of Health

Center for Scientific Review; Amended Notice of Meeting

Notice if hereby given of a change in the meeting of the Center for Scientific Review Special Emphasis Panel, September 28, 2004, 1 p.m. to September 28, 2004, 2 p.m., National Institutes of Health, 6701 Rockledge Drive, Bethesda, MD 20892 which was published in the Federal Register on September 9, 2004, 69 FR 54694-54696.

The meeting will be held September 30, 2004. The meeting time and location remain the same. The meeting is closed to the public.

Dated: September 14, 2004.
LaVerne Y. Stringfield,
Director, Office of Federal Advisory Committee Policy.

[FR Doc. 04-21118 Filed 9-17-04; 8:45 am]

BILLING CODE 4140-01-M